DEPARTMENT OF TRANSPORTATION

Federal Aviation Administration

14 CFR Part 39

[Docket No. FAA-2005-20594; Directorate Identifier 2004-NM-213-AD]

RIN 2120-AA64

Airworthiness Directives; Fokker Model F.28 Series Airplanes

AGENCY: Federal Aviation Administration (FAA), Department of Transportation (DOT).

ACTION: Notice of proposed rulemaking (NPRM).

SUMMARY: The FAA proposes to adopt a new airworthiness directive (AD) for all Fokker Model F.28 series airplanes. This proposed AD would require a one-time inspection of the area underneath the auxiliary power unit (APU) enclosure to determine if drain tubes in the area are correctly installed and to detect damaged wiring, and corrective action if necessary. This proposed AD is prompted by a report of a fire under the APU enclosure. We are proposing this AD to prevent fuel from accumulating under the APU enclosure, which, in the presence of an ignition source, could result in a fire.

DATES: We must receive comments on this proposed AD by April 14, 2005.

ADDRESSES: Use one of the following addresses to submit comments on this proposed AD.

• DOT Docket Web Site: Go to http://dms.dot.gov and follow the instructions for sending your comments electronically.

• Government-wide Rulemaking Web Site: Go to http://www.regulations.gov and follow the instructions for sending your comments electronically.

• Mail: Docket Management Facility, U.S. Department of Transportation, 400 Seventh Street SW., Nassif Building, room PL-401, Washington, DC 20590.

• By Fax: (202) 493-2251.

• Hand Delivery: Room PL-401 on the plaza level of the Nassif Building, 400 Seventh Street SW., Washington, DC, between 9 a.m. and 5 p.m., Monday through Friday, except Federal holidays.

For service information identified in this proposed AD, contact Fokker Services B.V., P.O. Box 231, 2150 AE Nieuw-Vennep, the Netherlands.

You can examine the contents of this AD docket on the Internet at http://dms.dot.gov, or in person at the Docket Management Facility, U.S. Department of Transportation, 400 Seventh Street SW., room PL-401, on the plaza level of the Nassif Building, Washington, DC. This docket number is FAA-2005-20594; the directorate identifier for this docket is 2004-NM-213-AD.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Comments Invited

We invite you to submit any relevant written data, views, or arguments regarding this proposed AD. Send your comments to an address listed under ADDRESSES. Include “Docket No. FAA-2005-20594; Directorate Identifier 2004-NM-213-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Civil Aviation Authority—The Netherlands (CAA-NL), which is the airworthiness authority for the Netherlands, notified us that an unsafe condition may exist on all Fokker Model F.28 series airplanes. The CAA-NL advises of an incident of a fire under the enclosure of the auxiliary power unit (APU). The flightcrew had received an APU fire warning following a successful APU start during taxiing. After the flightcrew shut down the APU and discharged the APU fire extinguisher, fire was subsequently observed at the APU overboard drain holes. The fire was extinguished by airport fire services. Investigation revealed that one of the APU drains was not connected properly, which had allowed fuel to accumulate under the APU enclosure. It is possible that the drain was not reconnected properly following maintenance activity in the area. Due to the extent of the fire damage, the ignition source has not been identified, but the fire may have been caused by sparks generated by damaged wiring underneath the APU enclosure. Accumulation of fuel under the APU enclosure, if not corrected, and if in the presence of an ignition source, could result in a fire.

Relevant Service Information

Fokker Services B.V. has issued Fokker Service Bulletins SBF100-49-036 (for Fokker Model F.28 Mark 0070 and 0100 series airplanes) and F28/49-038 (for the other Fokker Model F.28 series airplanes), both dated April 26, 2004. The service bulletins describe procedures for these one-time inspections of the area underneath the APU enclosure:

• A visual inspection to determine if the left- and right-hand engine drain tubes and the APU enclosure drain tube are correctly installed.

• A visual inspection to detect any damage, including, but not limited to, chafing, of the wiring in the area.

The corrective action if any drain tube is not correctly installed is to correctly install the drain tube and to remove any fuel that has accumulated under the APU enclosure. Corrective action if any damaged wiring is found is to repair the wiring. Accomplishing the actions specified in the service information is intended to adequately address the unsafe condition. The CAA-NL mandated the service information and issued Dutch airworthiness directive 2004-059, dated April 29, 2004, to ensure the continued airworthiness of these airplanes in the Netherlands.

FAA's Determination and Requirements of the Proposed AD

These airplane models are manufactured in the Netherlands and are type certificated for operation in the United States under the provisions of section 21.29 of the Federal Aviation Regulations (14 CFR 21.29) and the applicable bilateral airworthiness agreement. Pursuant to this bilateral airworthiness agreement, the CAA-NL has kept the FAA informed of the situation described above. We have examined the CAA-NL's findings, evaluated all pertinent information, and determined that we need to issue an AD for products of this type design that are certificated for operation in the United States.

Therefore, we are proposing this AD, which would require accomplishing the actions specified in the service information described previously.

Clarification of Inspection Terminology

The service bulletins specify a visual inspection of the area underneath the APU enclosure to determine if drain tubes in the area are correctly installed and to detect damaged wiring. We have determined that the inspection procedures specified in the service bulletins constitute a general visual inspection. Note 1 of this proposed AD defines this type of inspection.

Costs of Compliance

This proposed AD would affect about 4 airplanes of U.S. registry. The proposed actions would take about 1 work hour per airplane, at an average labor rate of $65 per work hour. Based on these figures, the estimated cost of the proposed AD for U.S. operators is $260, or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Fokker Services B.V.: Docket No. FAA-2005-20594; Directorate Identifier 2004-NM-213-AD.

Comments Due Date

(a) The Federal Aviation Administration must receive comments on this AD action by April 14, 2005.

Affected ADs

(b) None.

Applicability

(c) This AD applies to all Fokker Model F.28 series airplanes, certificated in any category.

Unsafe Condition

(d) This AD was prompted by a report of a fire under the APU enclosure. We are issuing this AD to prevent fuel from accumulating under the APU enclosure, which, in the presence of an ignition source, could result in a fire.

Compliance

(e) You are responsible for having the actions required by this AD performed within the compliance times specified, unless the actions have already been done.

Inspections

(f) Within 6 months after the effective date of this AD, perform a one-time general visual inspection of the area underneath the APU enclosure to determine if the left- and right-hand engine drain tubes and the APU enclosure drain tube are correctly installed, and to detect any damage, including, but not limited to, chafing of the wiring in the area. Do the inspection in accordance with the Accomplishment Instructions of Fokker Service Bulletin SBF100-49-036 (for Fokker Model F.28 Mark 0070 and 0100 series airplanes) or F28/49-038 (for all other Fokker Model F.28 series airplanes), both dated April 26, 2004, as applicable.

(1) If any drain tube is not correctly installed: Before further flight, correctly install the drain tube and remove any fuel that has accumulated under the APU enclosure, in accordance with the Accomplishment Instructions of the applicable service bulletin.

(2) If any damaged wiring is found: Before further flight, repair the wiring in accordance with the Accomplishment Instructions of the applicable service bulletin.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Alternative Methods of Compliance (AMOCs)

(g) The Manager, International Branch, ANM-116, Transport Airplane Directorate, FAA, has the authority to approve AMOCs for this AD, if requested in accordance with the procedures found in 14 CFR 39.19.

Related Information

(h) Dutch airworthiness directive 2004-059, dated April 29, 2004, also addresses the subject of this AD.

Issued in Renton, Washington, on March 7, 2005.
Ali Bahrami,
Manager, Transport Airplane Directorate, Aircraft Certification Service.

[FR Doc. 05-5011 Filed 3-14-05; 8:45 am]

BILLING CODE 4910-13-P